DEPARTMENT OF THE INTERIOR

Bureau of Land Management

[LLMT926000-L14400000.BJ0000; 15XL1109AF; MO#4500081366]

Notice of Filing of Plats of Survey; Montana

AGENCY: Bureau of Land Management, Interior.

ACTION: Notice of filing of plats of survey.

SUMMARY: The Bureau of Land Management (BLM) will file the plat of survey of the lands described below in the BLM Montana State Office, Billings, Montana, on August 27, 2015.

DATES: Protests of the survey must be filed before August 27, 2015 to be considered.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5003, hmontoya@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: These surveys were executed at the request of the Bureau of Land Management, Dillon Field Office, and were necessary to determine Federal interest lands.

The lands we surveyed are:

Principal Meridian, Montana

T. 4 S., R. 8 W.

The plat only, in one sheet, representing the dependent resurvey of a portion of the subdivisional lines, Township 4 South, Range 8 West, Principal Meridian, Montana, was accepted May 18, 2015 and

Principal Meridian, Montana

T. 2 S., R. 3 W.

The plat only, in one sheet, representing the remonumentation of Corner No. 4 of Mineral Survey No. 6594, Alice Lode, Township 2 South, Range 3 West, Principal Meridian, Montana, was accepted May 18, 2015.

We will place a copy of the plats only, in two sheets, we described in the open files. They will be available to the public as a matter of information. If the BLM receives a protest against these surveys, as shown on these plats only, in two sheets, prior to the date of the official filing, we will stay the filing pending our consideration of the protest. We will not officially file these plats only, in two sheets, until the day after we have accepted or dismissed all protests and they have become final, including decisions or appeals.

Authority: 43 U.S.C. Chap. 3.

Joshua F. Alexander,
Acting Chief, Branch of Cadastral Survey, Division of Energy, Minerals and Realty.

[FR Doc. 2015-18542 Filed 7-27-15; 8:45 am]

BILLING CODE 4310-DN-P